DEPARTMENT OF AGRICULTURE

Forest Service

Information Collection; Request for Comment; Evaluating Community Knowledge, Beliefs, Attitudes and Preferences Concerning Fire and Fuels Management in Southwestern Forest, Woodland and Grassland Ecosystems

AGENCY: Forest Service, USDA.

ACTION: Notice.

SUMMARY: In accordance with the Paperwork Reduction Act of 1995, the Forest Service is seeking comments from all interested individuals and organizations on a new, one-time information collection, Evaluating Community Knowledge, Beliefs, Attitudes and Preferences Concerning Fire and Fuels Management in Southwestern Forest, Woodland and Grassland Ecosystems. This collection effort is necessary to obtain information from the citizens of Arizona and New Mexico. The information provided by this study will allow USDA Forest Service land managers to better understand the public's knowledge, beliefs, attitudes and preferences regarding fire and fuels management issues in Region 3 of the USDA Forest Service. This information will assist Forest Service land managers in their efforts to interact more effectively with the public and manage the risks associated with wildland fire.

DATES: Comments must be received in writing on or before August 22, 2005 to be assured of consideration. Comments received after that date will be considered to the extent practicable.

ADDRESSES: Comments concerning this notice should be addressed to Dr. Carol Raish, USDA Forest Service, Rocky Mountain Research Station, 333 Broadway, SE., Suite 115, Albuquerque, New Mexico 87102-3497.

Comments also may be submitted via facsimile to (505) 724-3688 or by e-mail to: craish@fs.fed.us. The public may inspect comments received at USDA Forest Service, Rocky Mountain Research Station, 333 Broadway SE, Albuquerque, NM 87102-3497 during normal business hours. Visitors are encouraged to call ahead to (505) 724-3666 to facilitate entry to the building.

FOR FURTHER INFORMATION CONTACT: Dr. Carol Raish, (505) 724-3666. Individuals who use telecommunication devices for the deaf (TDD) may call the Federal Relay Service (FRS) at 1-800-877-8339 twenty-four hours a day, every day of the year, including holidays.

SUPPLEMENTARY INFORMATION: Title: Evaluating Community Knowledge, Beliefs, Attitudes and Preferences Concerning Fire and Fuels Management in Southwestern Forest, Woodland and Grassland Ecosystems.

OMB Number: 0596-New.

Expiration Date of Approval: New.

Type of Request: New.

Abstract: Although fire is increasingly recommended as a fuels reduction tool on both public and private lands, controversy often inhibits its use. Insufficient communication and understanding between land managers and the public frequently contribute to these difficulties. If managers do not have adequate information concerning public attitudes and actions concerning wildfire risk reduction behaviors (for example, creating defensible space on their properties by clearing brush and trees from a 30-foot area around the residence), then managers may not make well-informed decisions concerning appropriate communication techniques and needed public education information. In order to design and implement successful, socially acceptable fire and fuels management policies and programs, managers need to better understand the public's knowledge, attitudes and practices concerning wildfire. This project will collect information from the general public residing in Arizona and New Mexico. This type of information from these two states is important given the fire and fuels management decisions facing land managers in this area.

The information will be collected using a mail survey of households located in Arizona and New Mexico. Households will be randomly selected based upon addresses in the two states. Participation in the survey is strictly voluntary.

The survey will be administered by a firm operating under a Research Joint Venture with the USDA Forest Service, Rocky Mountain Research Station in Albuquerque, New Mexico.

The type of information collected will include: (1) Attitudes and preferences toward wildfire and fire management alternatives for public lands, (2) risk reduction behaviors that homeowners and individuals have undertaken to minimize wildfire risk, (3) sources of information regarding wildfires and wildfire risk reduction, and (4) socio-economic information. The data collected will then be analyzed by researchers at the Rocky Mountain Research Station and cooperators. The results will be made available to land managers, the surveyed public, and other interested parties. This information will enhance the ability of decision makers to communicate and understand the public and their preferences regarding fire and fuels management in Arizona and New Mexico. Without this type of information decision makers and the public will continue to interact on the issues without a broad-based understanding of the factors that are important to the general public of Arizona and New Mexico.

Estimate of Annual Burden: 20 minutes.

Type of Respondents: Individuals residing in Arizona and New Mexico.

Estimated Annual Number of Respondents: 2000.

Estimated Annual Number of Responses per Respondent: 1.

Estimated Total Annual Burden on Respondents: 667 hours.

Comment is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: June 16, 2005.
Bov B. Eav,
Associate Deputy Chief for Research & Development.

[FR Doc. 05-12408 Filed 6-22-05; 8:45 am]

BILLING CODE 3410-11-P